FEDERAL COMMUNICATIONS COMMISSION

47 CFR Part 73

[DA 02-317, MM Docket No. 02-29, RM-10372]

Digital Television Broadcast Service; Bowling Green, OH

AGENCY: Federal Communications Commission.

ACTION: Proposed rule.

SUMMARY: The Commission requests comments on a petition filed by Bowling Green State University, licensee of noncommercial educational station WBGU-TV, NTSC channel *27, Bowling Green, Ohio, proposing the substitution of DTV channel *20 for DTV channel *56. DTV Channel *20 can be allotted to Bowling Green, Ohio, in compliance with the principle community coverage requirements of Section 73.625(a) at reference coordinates (41-08-13 N. and 83-54-23 W.). Since the community of Bowling Green is within 400 kilometers of the U.S.-Canadian border, concurrence from the Canadian government must be obtain for this allotment. As requested, we propose to allot DTV Channel *20 to Bowling Green with a power of 200 and a height above average terrain (HAAT) of 320 meters.

DATES: Comments must be filed on or before April 8, 2002, and reply comments on or before April 23, 2002.

ADDRESSES: Federal Communications Commission, 445 12th Street, SW, Room TW-A325, Washington, DC 20554. In addition to filing comments with the FCC, interested parties should serve the petitioner, or its counsel or consultant, as follows: Wayne Coy, Jr., Cohn and Marks, LLP, Suite 300, 1920 N Street, NW, Washington, DC 20036-1622 (Counsel for Bowling Green State University).

FOR FURTHER INFORMATION CONTACT: Pam Blumenthal, Mass Media Bureau, (202) 418-1600.

SUPPLEMENTARY INFORMATION: This is a synopsis of the Commission's Notice of Proposed Rule Making, MM Docket No. 02-29, adopted February 8, 2002, and released February 14, 2001. The full text of this document is available for public inspection and copying during regular business hours in the FCC Reference Information Center, Portals II, 445 12th Street, SW, Room CY-A257, Washington, DC 20554. This document may also be purchased from the Commission's duplicating contractor, Qualex International, Portals II, 445 12th Street, SW, Room CY-B402, Washington, DC 20554, telephone 202-863-2893, facsimile 202-863-2898, or via-e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television, Digital television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.622 [Amended]

2. Section 73.622(b), the Table of Digital Television Allotments under Ohio is amended by removing DTV Channel *56 and adding DTV Channel *20 at Bowling Green.

Federal Communications Commission.
Barbara A. Kreisman,
Chief, Video Services Division, Mass Media Bureau.

[FR Doc. 02-4578 Filed 2-26-02; 8:45 am]

BILLING CODE 6712-01-P